DEPARTMENT OF LABOR

Bureau of Labor Statistics

Technical Advisory Committee; Notice of Meeting and Agenda

The Bureau of Labor Statistics Technical Advisory Committee will meet on Friday, November 19, 2021. This meeting will be held virtually from 10:00 a.m. to 4:00 p.m. EST.

The Committee presents advice and makes recommendations to the Bureau of Labor Statistics (BLS) on technical aspects of data collection and the formulation of economic measures and makes recommendations on areas of research. The BLS presents issues and then draws on the expertise of Committee members representing specialized fields within the academic disciplines of economics, statistics and data science, and survey design. The Federal Advisory Committee Act requires that agencies publish notice of an advisory committee meeting in the Federal Register.

The schedule and agenda for the meeting are as follows:

10:00 a.m. Commissioner's Welcome and Review of Agency Developments

10:30 a.m. Insurance Claims Data in Medical Care Price Indexes

1:00 p.m. Generating New Data on Emerging Topics Using the New QCEW Business Supplement (QBS)

2:30 p.m. Adjusting Industry Measures of Hours Worked for Labor Composition

4:00 p.m. Approximate Conclusion

The meeting is open to the public. Any questions concerning the meeting should be directed to Sarah Dale, Bureau of Labor Statistics Technical Advisory Committee, at BLSTAC@bls.gov. Individuals planning to attend the meeting should register at https://blstac.eventbrite.com. Individuals who require special accommodations should contact Ms. Dale at least two days prior to the meeting date.

Signed at Washington, DC, this 27th day of October 2021.
Eric Molina,
Acting Chief, Division of Management Systems, Bureau of Labor Statistics.

[FR Doc. 2021-23894 Filed 11-2-21; 8:45 am]

BILLING CODE 4510-24-P